COUNCIL ON ENVIRONMENTAL QUALITY

Interagency Ocean Policy Task Force

AGENCY: Council of Environmental Quality.

ACTION: Notice of request for comments.

SUMMARY: The Council on Environmental Quality (“CEQ”) has formed an Interagency Ocean Policy Group (“IOPG”) to develop the President's response to the recommendations in the U.S. Commission on Ocean Policy's Final Report that was released on September 20, 2004. In the process of developing the Administration response, the IOPG is accepting public comments on the Commission's Final Report. Because the IOPG has access to the public comments submitted to the commission on its Preliminary Report, which was released on April 20, 2004, the IOPG is seeking specific comments on the changes introduced in the Final Report.

DATES: Public comments will be accepted beginning on Friday, October 1, 2004. CEQ requests that comments be delivered to CEQ no later than the close of business (5:30 p.m. EST) on Monday, November 1, 2004.

ADDRESSES: Send electronic comments to: finalreportcomments@noaa.gov. Comments may be sent by facsimile to: (202) 456-9728. Comments may also be mailed to Council on Environmental Quality, 722 Jackson Place, NW., Washington, DC 20503 Attention: Interagency Ocean Policy Group.

SUPPLEMENTARY INFORMATION: The “Oceans Act Of 2000” (Pub. L. 106-256) established the U.S. commission on Ocean Policy to make recommendations for a coordinated and comprehensive national ocean policy that will promote: (1) Protection of life & property, (2) stewardship of ocean & coastal resources, (3) protection of marine environment and prevention of marine pollution, (4) enhancement of maritime commerce, (5) expansion of human knowledge of the marine environment, (6) investments in technologies to promote energy and food security, (7) close cooperation among government agencies, and (8) U.S. leadership in ocean & coastal activities. The law required the Commission to develop, in coordination with the States, a scientific advisory panel, and the public, a National Oceans Report. This Report makes recommendations to the President and Congress on ocean and coastal issues. The U.S. Commission on Ocean Policy's Final Report was released on September 20, 2004, and may be found at http://oceancommission.gov. Section 4 of the Oceans Act provides for the President to submit to Congress, within ninety (90) days of the receipt of this Report, a statement of proposals to implement or respond to the U.S. Ocean Commission's recommendations for a coordinated, comprehensive and long-range national policy for the responsible use and stewardship of ocean and coastal resources for the benefit of the United States. The IOPG will assist in the development of the Administration's response to the final recommendations. As Chair of the IOPG, and pursuant to the requirements of Section 4(b) of the Oceans Act of 2000, CEQ is accepting comments on U.S. Ocean Commission's recommendations. Further instructions for submitting comments to the IOPG may be found at http://ocean.ceg.gov.

Dated: September 24, 2004.
Philip Cooney,
Chief of Staff, Council on Environmental Quality.

[FR Doc. 04-22031 Filed 9-30-04; 8:45 am]

BILLING CODE 3125-01-M